DEPARTMENT OF AGRICULTURE

Submission for OMB Review; Comment Request

December 19, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Customer Service Survey Project.

OMB Control Number: 0579-NEW.

Summary of Collection: The Animal and Plant Health Inspection Service (APHIS) regulates, and provides services related to, the importation, interstate movement, and exportation of animals, animal products, and other articles to prevent the spread of pests and diseases of livestock. Veterinary Services (VS) is the unit that carries out these activities to protect animal health. VS plans to conduct a customer Service survey. VS needs to collect information which can be used to identify and correct shortcomings in the delivery of its services. The survey would be in the form of a short questionnaire that VS would present to individuals who use its services.

Need And Use of The Information: Data collected, analyzed, and interpreted concerning the Customer Service Survey will be used to evaluate and improve service delivery in area offices and import/export facilities. The information is to be used by Veterinary Services managers, and Supervisory Veterinary Medical Officers to revise programs and procedures and to request training for Veterinary Service employees who provide services to customers and stakeholders. If this data is not collected VS offices will lose a measurement tool for evaluating and improving services provided to the public.

Description Of Respondents: Farms; Individuals or households; Business or other for-profit.

Number Of Respondents: 5,000.

Frequency Of Responses: Reporting: On occasion.

Total Burden Hours: 415.

Ruth Brown,
Departmental Information Collection Clearance Officer.

[FR Doc. E6-21965 Filed 12-21-06; 8:45 am]

BILLING CODE 3410-34-P